DEPARTMENT OF TRANSPORTATION

Office of the Secretary

[Docket No. OST-96-1436]

Docket Management System (DMS)

AGENCY: Office of the Secretary, DOT.

ACTION: Notice requesting comments.

SUMMARY: The Office of the Secretary (OST) is requesting the public to comment on the DOT Docket Management System (DMS). Five years ago, DOT consolidated nine separate docket facilities and converted from a paper-based system to an electronic storage system that we later placed on the Internet. We have continued to make improvements and would like public comment on the current system and our plans for future changes.

DATES: Comments must be submitted by November 20, 2000.

ADDRESSES: Mail or hand deliver comments to the US Department of Transportation, Docket Management Facility, Docket No. OST-96-1436, Room PL-401, 400 Seventh Street, SW., Washington, DC 20590, or submit electronically at http://dmses.dot.gov/submit/. The Docket Management Facility, Room PL-401, is open for public inspection and copying of comments from 9 a.m. to 5 p.m. ET Monday through Friday, except Federal Holidays. See SUPPLEMENTARY INFORMATION for additional information on comment acknowledgment and electronic submission.

FOR FURTHER INFORMATION CONTACT: Ms. Dorothy Y. Beard, Chief, Docket Operations and Media Management, SVC-124, (202) 366-5149.

SUPPLEMENTARY INFORMATION:

Background

This notice is intended to inform the public about, and to solicit public comment on, the features and functions of the DMS. Five years ago, DOT consolidated nine separate docket facilities and converted from a paper-based system to an optical “imaging” system, which keeps a picture of the document, for more efficient storage, management, and retrieval of docketed information. The new system now provides the public with 24-hour access and electronic filing of comments through the world-wide web. DOT would like to take this opportunity to obtain additional suggestions and feedback on the DMS.

Comment Acknowledgement

Any person wishing acknowledgement of comment receipt should include a self-addressed stamped postcard, or print the acknowledgement page after submitting comments electronically.

Electronic Access and Filing

You may submit comments online through the DMS at http://dmses.dot.gov/submit/. Acceptable formats include: MS Word (Versions 95-97), MS Word for Mac (Versions 6-8), Rich Text File (RTF), American Standard Code Information Interchange (ASCII)(TXT), Portable Document Format (PDF), and Word Perfect (WPD) (Versions 7-8). Electronic Submission Help and Guidelines are available under the Help section of the web site.

Consolidated Feedback

The next several paragraphs include consolidated feedback from our on-line feedback forms, previously solicited comments, telephone callers, and frequent customers. Each subject area includes a description and a solution with the anticipated completion time.

DMS Search Function: http://dms.dot.gov/search/.

Description: This area received the greatest amount of feedback. The issues raised by commenters concerned the difficulty of locating desired information when searching in the various options provided, determining which docket number to use, and determining which fields to complete to conduct searches. The search area is comprised of three options: (a) Docket Search Form, (b) Docket Number, and (c) Keyword Search. The Docket Search Form is an advanced search option and allows users to search for information in numerous docket and document level data fields. (“Docket” refers to the file containing all of the documents for a particular rulemaking; and “Document” refers to the individual items in the docket, such as a proposed rule or a public comment on the proposed rule.) The Docket Number search is a quick search for users who know the last four digits of the DMS assigned docket number. The Keyword Search is a search that simultaneously searches the data in the Docket Subject, Docket Title, and Document Title fields for key words.

Solution: Completed improvements include search tips, examples, and user-friendly built in help mechanisms. DOT plans to add additional online help, user-friendly drop down menus, date range search capabilities, and more informative search tips with examples to make the search features easier to use. These are planned for implementation by the end of December 2000.

Document Images:

Description: The DMS displays two images for each document processed. The first image type, Tagged Image File Format (TIFF), is a true picture copy of the original document submitted to DOT. The second image type, Portable Document Format (PDF), is a manually converted image using Adobe Capture software to create a smaller text document. Some documents processed prior to 1997 included incomplete TIFF images. The documents displayed a bad link or corrupt file message when displayed in TIFF or PDF formats.

Solution: Completed adjustments to the DMS Web applications eliminated the file access problems. The implementation of a new file integrity check added to the quality assurance application and procedures and eliminates any incomplete or missing images. New documents received electronically are immediately processed into PDF to provide easier access and hard copy documents are typically processed into PDF within one day.

Image Integrity:

Description: The PDF conversion performs an Optical Character Recognition (OCR) process. In cases where the application cannot recognize the text, an image of the text is substituted for the characters which causes subtle variations in the look of the document (i.e., font changes, character bolding, character replacement, etc.). In order to maintain document integrity, DMS provides links to both the “original” document in TIFF or one of the Electronic Submission formats. The PDF copy is for convenience and faster downloading.

Solution: Future enhancement plans include an explanation of the PDF issues to provide additional guidance for the Dockets users and explain the technical limitations of the PDF files. A disclaimer, telling users to treat the TIFF image as the official record, warns users of PDF limitations. The PDF Image and Text format will be used to provide a text layer for future full text search capabilities and provide a document identical to the original TIFF image. Implementation of more informative explanations of the PDF file technical limitations and improved online help is planned for availability by the end of December 2000.

TIFF Image Byte Size Not Displayed:

Description: The DMS displays the file size (byte size) for both the TIFF and PDF files to assist users in determining download times. On many of the older images the TIFF file size appears as ** and the number of bytes is missing.

Solution: Completed updates to the database now include the byte size of all TIFF images. This provides the user with both the number of pages in the document, and the size of the file.

Viewers and Browser “Plug Ins”:

Description: Since TIFF is not an image format automatically available with popular internet browsers, installation of a “plug-in” is needed to allow image viewing. The Help section of the DMS includes instructions for “plug-in” installation and provides links to vendors, but users continue to have problems configuring the image viewers in their browsers. In some instances, networks restrict access to “configured” web sites, blocking access to the DMS.

Solution: Implementation is complete for extensive descriptions and online help for configuring browsers for the various viewer configurations. A specific help section (Frequently Asked Questions) is currently available for configuring the Wang Imaging and Kodak viewers that come with Windows 95 (Win95) and Windows NT for popular browsers. Completed improvements to the user interface provide a user-friendly environment to assist in finding the help and FAQ technical support information. Enhancements include instructions for configuring Win95, NT, and additionally to provide links to newer commercial products. Where networks restrict access to “configured” web sites, we will continue to work with the network support staff from each organization experiencing the problem to pinpoint the communications failures.

Printing Multiple Documents:

Description: Many users want to review all comments or an entire docket on paper rather than browsing through the web site. The current application requires each individual document to be viewed and printed one at a time, which is very time consuming for large dockets. Printing of the large images is time intensive and sometimes causes severe performance problems.

Solution: A new online Docket printing request form is planned to allow Web users to request DOT staff print all of the documents within a docket. The form will provide the user with the cost for the printing/mailing services and track payment by check. The Dockets printing request form is planned for completion in December 2000.

Reports: http://dms.dot.gov/reports/.

Description: The DMS Web site is configured to only display documents that have a corresponding document image saved into the system. The Daily Filing Report, which lists items filed each day, displays all document records regardless of the availability of the images. Users become frustrated when they see a document on The Daily Filing Report, but can not view the document on the DMS web site, because it is being processed and has not been saved on the system.

Solution: A modification is planned which will enable users to view document data in the data fields of the document record while the image is pending processing. A message display will indicate that document image processing is pending when the image is not available. Implementation is planned for completion by December 2000.

Online Support and Feedback:

http://152.119.239.10/feedback/

http://152.119.239.10/support/

Description: Although there are pull down menus, most users use “other” to describe any problems in the support system. Users frequently submit comments via this area instead of in the required Electronic Submission section. Additionally, users call the 800-number rather than submit feedback or support requests online.

Solution: More descriptive categories exist in both the feedback and support systems to adequately describe the problem types. Callers utilizing the 800-number service receive notification of the online capability. We completed changes to the Online Support and Feedback functions in February 2000.

We are soliciting any thoughts or ideas regarding the information provided within this notice. We welcome DMS enhancement suggestions, other potential service areas of interest, and user feedback regarding the need for a DMS training course.

Issued in Washington, DC on September 14, 2000.
Neil R. Eisner,
Assistant General Counsel for Regulation and Enforcement.

[FR Doc. 00-24181 Filed 9-19-00; 8:45 am]

BILLING CODE 4910-62-P